DEPARTMENT OF THE TREASURY

Submission for OMB Review; Comment Request

August 31, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 7, 2010 to be assured of consideration.

Financial Crimes Enforcement Network (FinCEN)

OMB Number: 1506-XXXX.

Type of Review: New Information Collection.

Title: Administrative Rulings.

Description: These sections address administrative rulings under the Bank Secrecy Act. They explain how to submit a ruling request (103.81), how nonconforming requests are handled (103.82), how oral communications are treated (103.83), how rulings are issued (103.85), how rulings are modified or rescinded (103.86), and how information may be disclosed (103.87). This is a reallocation of currently approved burden from 1506-0009 to this new control number.

Affected Public: Private Sector: Businesses or other for-profits.

Estimated Total Reporting Burden: 60 hours.

OMB Number: 1506-XXXX.

Type of Review: New Information Collection.

Title: Special rules for casinos (31 CFR 103.64, 103.36(b)(10), and 103.38).

Description: This section provides special rules for casinos, including the requirement that casinos maintain a written anti money laundering compliance program. This action is the reallocation of currently approved burden from 1506-0009.

Affected Public: Private Sector: Businesses or other for-profits.

Estimated Total Reporting Burden: 92,500 hours.

OMB Number: 1506-XXXX.

Type of Review: New Information Collection.

Title: Additional records to be made and retained by currency dealers or exchangers (31 CFR 103.37 and 103.38).

Description: A currency dealer or exchanger must make and maintain a record of the taxpayer identification number of certain persons for whom a transaction account is opened or a line of credit is extended, and must maintain a list containing the names, addresses, and account or credit line numbers of those persons from whom it has been unable to secure such information. A currency dealer or exchanger must retain the original or a copy of certain documents, as specified in section 103.37. The required records must be maintained for five years (31 CFR 103.38). This action reallocates currently approved burden from 1506-0009 to this new control number.

Affected Public: Private Sector: Businesses or other for-profits.

Estimated Total Reporting Burden: 36,800 hours.

OMB Number: 1506-XXXX.

Type of Review: New Information Collection.

Title: Additional records to be made and retained by casinos (31 CFR 103.36 and 103.38).

Description: Casinos (and card clubs) must make and retain a record of the name, permanent address, and taxpayer identification number each person who deposits funds with the casino, opens an account at the casino, or to whom the casino extends a line of credit (and maintain a list, available to the Secretary upon request, of the names and addresses of persons who do not furnish a taxpayer identification number), and must retain the original or a copy of certain documents, as specified in section 103.36 (31 CFR 103.36(a) and (b)(1)-(8)). Casinos must also maintain a list of transactions with customers involving certain instruments (31 CFR 103.36(b)(9)). Card clubs must maintain records of currency transactions by customers and records of activity at cages (31 CFR 103.36(b)(11)). Casinos that input, store, or retain required records on computer disk, tape or other machine-readable media must maintain the records on such media (31 CFR 103.36(c)). Required records must be maintained for five years (31 CFR 103.38). This action reallocates currently approved burden from 1506-0009 to this new control number.

Affected Public: Private Sector: Businesses or other for-profits.

Estimated Total Reporting Burden: 121,056 hours.

OMB Number: 1506-XXXX.

Type of Review: New Information Collection.

Title: Additional records to be made and retained by brokers or dealers in securities (31 CFR 103.35 and 103.38).

Description: A broker or dealer in securities must retain an original or copy of certain documents, as specified in section 103.35. The required records must be maintained for five years (31 CFR 103.38). This action reallocates already approved burden from 1506-0009 to a new control number.

Affected Public: Private Sector: Businesses or other for-profits.

Estimated Total Reporting Burden: 830,000 hours.

OMB Number: 1506-XXXX.

Type of Review: New Information Collection.

Title: Additional records to be made and retained by banks (31 CFR 103.34 and 103.38).

Description: A bank must retain an original or copy of certain documents, as specified in section 103.34. The required records must be maintained for five years (31 CFR 103.38). This is a reallocation of burden from 1506-0009 to a new control number.

Affected Public: Private Sector: Businesses or other for-profits.

Estimated Total Reporting Burden: 2,290,000 hours.

OMB Number: 1506-XXXX.

Type of Review: New Information Collection.

Title: Records to be made and retained by financial institutions (31 CFR 103.33 and 103.38).

Description: Each financial institution must retain an original or copy of records related to extensions of credit in excess of $10,000 (other than those secured by real property), and records related to transfers of funds, currency, other monetary instruments, checks, investment securities, or credit of more than $10,000 to or from the United States (31 CFR 103.33(a)-(c)). Banks and non-bank financial institutions must also maintain records related to, and include certain information as part of, funds transfers or transmittals of funds involving more than $3,000 (31 CFR 103.33(e)-(f), and 103.33(g)). The required records must be maintained for five years (31 CFR 103.38). This is a reallocation from 1506-0009.

Affected Public: Private Sector: Businesses or other for-profits.

Estimated Total Reporting Burden: 2,139,000 hours.

OMB Number: 1506-XXXX.

Type of Review: New Information Collection.

Title: Purchases of bank checks and drafts, cashier's checks, money orders and traveler's checks (31 CFR 103.29 and 31 CFR 103.38).

Description: Financial institutions must maintain records of certain information related to the sale of bank checks and drafts, cashiers checks, money orders, or traveler's checks when the sale involves currency between $3,000-$10,000. The records must be maintained for a period of five years and be made available to Treasury upon request. This action accounts for PRA burden previously listed under 1506-0009.

Affected Public: Private Sector: Businesses or other for-profits.

Estimated Total Reporting Burden: 456,750 hours.

OMB Number: 1506-XXXX.

Type of Review: New Information Collection.

Title: Reports of certain domestic coin and currency transactions (31 CFR 103.26 and 103.33(d)).

Description: Upon a finding that additional reporting or recordkeeping is necessary to carry out the purposes, or prevent the evasion, of the Bank Secrecy Act, Treasury may issue an order requiring financial institutions or groups of financial institutions in certain geographic locations to report certain transactions in prescribed amounts for a limited period of time (31 CFR 103.26). Financial institutions subject to a geographic targeting order must maintain records for such period of time as the order requires but not more than 5 years (31 CFR 103.33(d)). Although the burden is stated as an annual burden in accordance with the Paperwork Reduction Act, the estimated annual burden is not intended to indicate that there is a geographic targeting order in effect throughout a year or in each year.

Affected Public: Private Sector: Businesses or other for-profits.

Estimated Total Reporting Burden: 6,800 hours.

OMB Number: 1506-XXXX.

Type of Review: New Information Collection.

Title: Reports of transactions with foreign financial agencies (31 CFR 103.25).

Description: Treasury may, by regulation, require specified financial institutions to report transactions by persons with designated foreign financial agencies. This recordkeeping requirement was previously reported under 1506-0009.

Affected Public: Private Sector: Businesses or other for-profits.

Estimated Total Reporting Burden: 1 hour.

Bureau Clearance Officer: Russell Stephenson (202) 354-6012, Department of the Treasury, Financial Crimes Enforcement Network, P.O. Box 39, Vienna, VA 22183; (202) 354-6012

OMB Reviewer: Shagufta Ahmed, Office of Management and Budget, New Executive Office Building, Room 10235, Washington, DC 20503; (202) 395-7873.

Robert Dahl,
Treasury PRA Clearance Officer.

[FR Doc. 2010-22143 Filed 9-3-10; 8:45 am]

BILLING CODE 4810-02-P